DEPARTMENT OF ENERGY

Federal Energy Regulatory Commission

[Project No. 5984-071]

Erie Boulevard Hydropower, L.P.; Notice of Application Accepted for Filing and Soliciting Comments, Motions To Intervene, and Protests

Take notice that the following hydroelectric application has been filed with the Commission and is available for public inspection:

a. Application Type: Application for Non-Capacity Amendment of License.

b. Project No: 5984-071.

c. Date Filed: November 9, 2021.

d. Applicant: Erie Boulevard Hydropower, L.P.

e. Name of Project: Oswego Falls Hydroelectric Project.

f. Location: The project is located on the Oswego River in Oswego and Onodaga counties, New York.

g. Filed Pursuant to: Federal Power Act, 16 U.S.C. 791a-825r.

h. Applicant Contact:

Thomas Uncher, Erie Boulevard Hydropower, L.P., 399 Big Bay Road, Queensbury, NY 12804, (518) 743-2018

Nathan Stevens, Brookfield Renewable, 150 Main Street, Lewiston, ME 04240, (207) 660-2223

i. FERC Contact: Elizabeth Moats, (202) 502-6632, Elizabeth.Moats@ferc.gov.

j. Deadline for filing comments, motions to intervene, and protests: January 3, 2022.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include the docket number P-5984-071. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: The licensee proposes to remove the existing trashracks from the structure at the upstream end of the West Development hydro canal and construct a new concrete sill and steel structure immediately upstream of the powerhouse intake to support new 1-inch clear trashracks. The licensee would also construct a new fish conveyance system along the right side of the West Development hydro canal, 90 feet upstream of the new trashracks. In addition, the licensee proposes to now discharge some of the required minimum flow from the new fish conveyance system instead of the Tainter gate. The proposed amendment would only affect the West Development. The licensee does not propose any changes to existing project operations, headpond elevation, or spillway capacity.

l. Locations of the Application: This filing may be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: December 2, 2021.
Kimberly D. Bose,
Secretary.

[FR Doc. 2021-26579 Filed 12-7-21; 8:45 am]

BILLING CODE 6717-01-P